ENVIRONMENTAL PROTECTION AGENCY

[EPA-HQ-SFUND-2015-0100; FRL-9978-53-OLEM]

Agency Information Collection Activities; Proposed Collection; Comment Request; Continuous Release Reporting Regulations (CRRR) Under CERCLA 1980 (Renewal); EPA ICR No. 1445.13, OMB Control No. 2050-0086

AGENCY: Environmental Protection Agency (EPA).

ACTION: Notice.

SUMMARY: The Environmental Protection Agency (EPA) is planning to submit an information collection request (ICR), “Agency Information Collection Activities; Submission to OMB for Review and Approval; Comment Request; Continuous Release Reporting Regulations (CRRR) Under CERCLA 1980 (Renewal)” (EPA ICR No. 1445.13, OMB Control No. 2050-0086) to the Office of Management and Budget (OMB) for review and approval in accordance with the Paperwork Reduction Act. Before doing so, EPA is soliciting public comments on specific aspects of the proposed information collection as described below. This is a proposed extension of the ICR, which is currently approved through November 30, 2018. An Agency may not conduct or sponsor and a person is not required to respond to a collection of information unless it displays a currently valid OMB control number.

DATES: Comments must be submitted on or before July 30, 2018.

ADDRESSES: Submit your comments, referencing Docket ID No. EPA-HQ-SFUND-2015-0100 online using www.regulations.gov (our preferred method), by email to superfund.docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Sicy Jacob, Regulations Implementation Division, Office of Emergency Management, (5104A), Environmental Protection Agency, 1200 Pennsylvania Ave. NW, Washington, DC 20460; telephone number: (202) 564-8019; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Section 103(a) of CERCLA, as amended, requires the person in charge of a vessel or facility to immediately notify the National Response Center (NRC) of a hazardous substance release into the environment if the amount of the release equals or exceeds the substance's reportable quantity (RQ). The RQ of every hazardous substance can be found in Table 302.4 of 40 CFR 302.4.

Reporting under the Emergency Planning Community Right to Know Act (EPCRA) section 304 is closely tied to reporting under CERCLA section 103. Under the provisions of EPCRA section 304, all releases of CERCLA hazardous substances that must be reported under CERCLA section 103(a), as well as EPCRA EHSs, must also be reported to State Emergency Response Commissions (SERCs) and Local Emergency Planning Committees (LEPCs) if the releases have a potential for off-site exposure. Releases of other EHSs, that are not CERCLA hazardous substances must be reported to SERCs and LEPCs if they occur in a manner that would require notification under CERCLA section 103(a). Similarly, releases exempt from reporting under CERCLA section 103(a), such as federally permitted releases, or releases subject to reduced reporting requirements under CERCLA section 103(f)(2), are not subject to immediate notification under EPCRA section 304.

The previous ICR inadvertently omitted collection activities and the burden and cost analysis under EPCRA, and are now being accounted for in this ICR renewal.

The continuous release reporting regulations (CRRR) is codified in 40 CFR 302.8 and 355.32 for CERCLA and EPCRA, respectively.

Section 103(f)(2) of CERCLA provides facilities relief from this per-occurrence notification requirement if the hazardous substance release at or above the RQ is continuous and stable in quantity and rate. To ensure that government authorities receive timely and sufficient information to evaluate potentially dangerous hazardous substance releases reported under CERCLA section 103 and EPCRA Section 304, the Continuous Release Reporting Requirements (CRRR), requires reporting a release as a continuous release. The regulations require facilities to make an initial telephone call to the NRC, the SERC, and the LEPC, an initial written report to the EPA Region, the SERC, and the LEPC, and, if the source and chemical composition of the continuous release does not change and the level of the continuous release does not significantly increase, a follow-up written report to the EPA Region one year after submission of the initial written report. If the source or chemical composition of the previously reported continuous release changes, notifying the NRC, the EPA Region, the SERC, and the LEPC of a change in the source or composition of the release is required. Further, a significant increase in the level of the previously reported continuous release must be reported immediately to the NRC, the SERC, and the LEPC according to section 103(a) of CERCLA and EPCRA section 304. Finally, any change in information submitted in support of a continuous release notification must be reported to the EPA Region.

The reporting of a hazardous substance release that is equal to or above the substance's RQ allows the Federal government to determine whether a Federal response action is required to control or mitigate any potential adverse effects to public health or welfare or the environment.

The continuous release of hazardous substance information collected under CERCLA section 103(f)(2) is also available to EPA program offices and other Federal agencies who use the information to evaluate the potential need for additional regulations, new permitting requirements for specific substances or sources, or improved emergency response planning. State and local government authorities and facilities subject to the CRRR use release information for purposes of local emergency response planning. Members of the public, who have access to release information through the Freedom of Information Act, may request release information for purposes of maintaining an awareness of what types of releases are occurring in different localities and what actions, if any, are being taken to protect public health and welfare and the environment. An agency may not conduct or sponsor, and a person is not required to respond to, a collection of information unless it displays a currently valid OMB control number. The OMB control numbers for EPA's regulations in 40 CFR are listed in 40 CFR part 9.

Form numbers: EPA Form 6100-10, Continuous Release Reporting Form.

Respondents/affected entities: Entities potentially affected by this action are not defined. The usage and release of hazardous substances are pervasive throughout industry. EPA expects a number of different industrial categories to report hazardous substance releases under the provisions of the CRRR. No one industry sector or group of sectors is disproportionately affected by the information collection burden.

Respondent's obligation to respond: Mandatory if respondents want to obtain reduced reporting for continuous releases. See the abstract for details.

Estimated number of respondents: 4,192.

Frequency of response: On occasion.

Total estimated burden: 334,472 hours (per year). Burden is defined at 5 CFR 1320.03(b).

Total estimated cost: $19,797,899 (per year), includes $243,200 annualized capital or operation & maintenance costs.

Changes in estimates: There is an increase of 8,890 hours in the total estimated respondent burden compared with the ICR currently approved by OMB. This increase in burden results primarily from use of data on the actual number of continuous release reports from several regions and applying a growth rate consistent with prior years reporting. The average annual percent increase in facilities in the previous ICR was approximately 7.5%. The same percent increase was assumed for this ICR. The unit burden hours per respondent information collection activity remains the same as the previous ICR. In addition, this ICR takes into account the requirements under EPCRA section 304, which were inadvertently omitted last renewal.

Dated: May 16, 2018.
Kimberly Jennings,
Acting Director, Office of Emergency Management.

[FR Doc. 2018-11581 Filed 5-29-18; 8:45 am]

BILLING CODE 6560-50-P